DEPARTMENT OF LABOR

Employment and Training Administration

[TA-W-54,654]

Medtronic Vascular, Danvers, MA; Notice of Termination of Investigation

Pursuant to section 221 of the Trade Act of 1974, as amended, an investigation was initiated on April 2, 2004, in response to a petition filed by a company official on behalf of workers at Medtronic Vascular, Danvers Massachusetts.

The petitioner has requested that the petition be withdrawn. Consequently, the investigation has been terminated.

Signed in Washington, DC this 19th day of April, 2004.
Linda G. Poole,
Certifying Officer, Division of Trade Adjustment Assistance.

[FR Doc. E4-1052 Filed 5-7-04; 8:45 am]

BILLING CODE 4510-13-P